DEPARTMENT OF ENERGY

Federal Energy Regulatory Commission

[Docket No. CP25-94-000]

Rockies Express Pipeline LLC; Notice of Schedule for the Preparation of an Environmental Assessment for the Decatur Lateral Project

On February 28, 2025, Rockies Express Pipeline LLC (Rockies Express), filed an application in Docket No. CP25-94-000 requesting a Certificate of Public Convenience and Necessity pursuant to section 7(c) of the Natural Gas Act to construct and operate certain natural gas pipeline facilities. The proposed project is known as the Decatur Lateral Project and would provide about 185 million standard cubic feet of natural gas per day to Archer Daniels Midland and the Broadwing Clean Energy Complex.

On March 12, 2025, the Federal Energy Regulatory Commission (Commission or FERC) issued its Notice of Application for the Project. Among other things, that notice alerted agencies issuing federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1746098263.

Schedule for Environmental Review

Issuance of EA—December 12, 2025

90-day Federal Authorization Decision Deadline ²—March 12, 2026

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

Rockies Express proposes to construct and operate a 15.9-mile, 20-inch-diameter natural gas transmission lateral pipeline and a 0.8-mile, 20-inch-diameter spur pipeline that would connect its mainline, which runs south of Decatur, IL, to two facilities in Decatur. Rockies Express would also construct numerous associated facilities including meter stations, valves, and inspection tool launching/receiving facilities.

Background

On April 11, 2025, the Commission issued a “Notice of Scoping Period Requesting Comments on Environmental Issues and Notice of On-site Environmental Review for the Proposed Decatur Lateral Project” (Notice of Scoping). The Notice of Scoping was sent to affected landowners; Federal, State, and local government agencies; elected officials; environmental and public interest groups; Native American Tribes; other interested parties; and local libraries and newspapers. The Commission did not receive any comments in response to the Notice of Scoping; however, prior to its issuance, the Commission received environmental comments from the Illinois Farm Bureau and from one individual. The primary issues raised in the comments concern agricultural practices, specifically a request that FERC require Rockies Express to enter into an Agricultural Impact Mitigation Agreement with the Illinois Department of Agriculture, and that Rockies Express file for a permit with the Illinois Department of Transportation. All substantive comments will be addressed in the EA.

Additional Information

To receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-94), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 9, 2025.
Debbie-Anne A. Reese,
Secretary.

[FR Doc. 2025-08651 Filed 5-14-25; 8:45 am]

BILLING CODE 6717-01-P